DEPARTMENT OF THE INTERIOR

Bureau of Land Management

[MT-070-04-1610-PH]

Notice of Public Meeting, Western Montana Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM), the Western Montana Resource Advisory Council will meet as indicated below.

DATES: For the Western Montana RAC, a “working meeting” dedicated to review of the Draft Dillon Resource Management Plan will be held April 19, 2004 at the BLM Dillon Field Office, 1005 Selway Drive, Dillon, Montana beginning at 10 a.m. The public comment period will begin at 11:30 a.m. and the meeting is expected to adjourn by 3 p.m.

The next regular meeting of the Western Montana RAC will be held June 24 and 25, 2004 at the Missoula Field Office, 3255 Fort Missoula Road, Missoula, Montana beginning at 10 a.m. on June 24. The public comment period will begin at 11:30 a.m. on June 24 and the meeting is expected to adjourn by 5 p.m. On June 25 the Missoula Field Office will host a field trip for RAC members to the Blackfoot River corridor that will conclude early afternoon.

SUPPLEMENTARY INFORMATION: The 15-member Council advises the Secretary of the Interior, through the Bureau of Land Management, on a variety of planning and management issues associated with public land management in western Montana. At the April 19 meeting, we plan to discuss and possibly make recommendations on the Draft Dillon Resource Management Plan.

At the June 24 business meeting, the council members will finish the Draft Dillon RMP discussion, hear a presentation on the hazardous fuels/risk assessment program, discuss a possible allotment stewardship project proposal, hear an update on the national RAC chair meeting, and possibly hear from a biologist familiar with big horn sheep issues.

All meetings are open to the public. The public may present written comments to the Council. Each formal Council meeting will also have time allocated for hearing public comments. Depending on the number of persons wishing to comment and time available, the time for individual oral comments may be limited. Individuals who plan to attend and need special assistance, such as sign language interpretation, or other reasonable accommodations, should contact the BLM as provided below.

FOR FURTHER INFORMATION CONTACT: For the Western Montana RAC, contact Marilyn Krause, Resource Advisory Council Coordinator, at the Butte Field Office, 106 North Parkmont, Butte, Montana 59701, telephone 406-533-7617 or Tim Bozorth, Field Manager, Dillon Field Office, (406) 683-2337 or Nancy Anderson, Field Manager, Missoula Field Office, (406) 329-3914.

Dated: March 1, 2004.
Mark Goeden,
Acting Field Manager.

[FR Doc. 04-5228 Filed 3-8-04; 8:45 am]

BILLING CODE 4310-$$-P